CORPORATION FOR NATIONAL AND COMMUNITY SERVICE

Agency Information Collection Activities; Submission to the Office of Management and Budget for Review and Approval; Comment Request; AmeriCorps External Reviewer Survey; Proposed Information Collection; Comment Request

AGENCY: Corporation for National and Community Service.

ACTION: Notice of information collection; request for comment.

SUMMARY: The Corporation for National and Community Service (CNCS, operating as AmeriCorps) has submitted a public information collection request (ICR) entitled AmeriCorps External Reviewer Survey for review and approval in accordance with the Paperwork Reduction Act.

DATES: Written comments must be submitted to the individual and office listed in the ADDRESSES section by February 11, 2021.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of this ICR, with applicable supporting documentation, may be obtained by calling AmeriCorps, Curtis Cannon at 202-606-6706, or by email to ccannon@cns.gov.

SUPPLEMENTARY INFORMATION: The OMB is particularly interested in comments which:

• Evaluate whether the proposed collection of information is necessary for the proper performance of the functions of AmeriCorps, including whether the information will have practical utility;

• Evaluate the accuracy of the agency's estimate of the burden of the proposed collection of information, including the validity of the methodology and assumptions;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on November 13, 2020 at Vol. 85, No. 220, Pg. 72638. This comment period ended January 12, 2021. Zero public comments were received from this Notice.

Title of Collection: AmeriCorps External Reviewer Survey.

OMB Control Number: 3045-0090. Type of Review: New.

Respondents/Affected Public: Individuals and Households.

Total Estimated Number of Annual Responses: 250.

Total Estimated Number of Annual Burden Hours: 60 hours.

Abstract: The External Reviewer Survey is used by individuals who have served as External Reviewers or External Panel Coordinators for AmeriCorps to review grant applications. The information collected will be used by AmeriCorps to assess and make improvements to grant competitions. The information is collected electronically. This is a new information collection.

Dated: January 6, 2021.
Amy Hetrick,
Director, Grants, Policy and Operations.

[FR Doc. 2021-00441 Filed 1-11-21; 8:45 am]

BILLING CODE 6050-28-P